FEDERAL ELECTION COMMISSION

Sunshine Act; Meeting

Date & Time: Thursday, February 9, 2006 at 10 a.m.

Place: 999 E Street, NW., Washington, DC (Ninth Floor).

Status: This meeting will be open to the public.

Items to be Discussed:

Correction and Approval of Minutes.

Final Rules for Definition of Federal Election Activity.

Routine Administrative Matters.

FOR FURTHER INFORMATION CONTACT: Mr. Robert Biersack, Press Officer, Telephone: (202) 694-1200.

Mary W. Dove,
Secretary of the Commission.

[FR Doc. 06-1112 Filed 2-2-06; 2:45 pm]

BILLING CODE 6715-01-M